DEPARTMENT OF THE INTERIOR

Minerals Management Service

Agency Information Collection Activities: Submitted for Office of Management and Budget Review; Comment Request

AGENCY: Minerals Management Service (MMS), Interior.

ACTION: Notice of Information Collection Request (OMB Control Number 1010-NEW).

SUMMARY: Under the Paperwork Reduction Act (PRA) of 1995 (44 U.S.C. 3501 et seq.), we are notifying you that an information collection request (ICR) has been forwarded to the Office of Management and Budget (OMB) for review and approval. We are also soliciting your comments on this ICR which describes the information collection, its expected costs and burden, and how the data will be collected.

DATES: Submit written comments on or before June 19, 2000.

ADDRESSES: You may submit comments directly to the Office of Information and Regulatory Affairs, OMB, Attention: Desk Officer for the Interior Department (OMB Control Number 1010-NEW), 725 17th Street, NW, Washington, DC 20503; telephone (202) 395-7340. You should also send copies of these comments to us. Our mailing address for written comments regarding this information collection is David S. Guzy, Chief, Rules and Publications Staff, Minerals Management Service, Royalty Management Program, P.O. Box 25165, MS 3021, Denver, Colorado 80225. Courier or overnight delivery address is Building 85, Room A-613, Denver Federal Center, Denver, Colorado 80225.

Public Comment Procedure

If you wish to comment, you may submit your comments by any one of several methods. You may mail comments to the offices listed in the ADDRESSES section. You may also comment via the Internet to RMP.comments@mms.gov. Please submit Internet comments as an ASCII file avoiding the use of special characters and any form of encryption. Include Attn: OMB Control Number 1010-NEW, and your name and return address in your Internet message. If you do not receive a confirmation from the system that we have received your Internet message, contact David S. Guzy directly at (303) 231-3432.

We will post public comments after the comment period closes on the Internet at http://www.rmp.mms.gov. You may arrange to view paper copies of the comments by contacting David S. Guzy, Chief, Rules and Publications Staff, telephone (303) 231-3432, FAX (303) 231-3385. Our practice is to make comments, including names and addresses of respondents, available for public review on the Internet and during regular business hours at our offices in Lakewood, Colorado. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Dennis C. Jones, Rules and Publications Staff, phone (303) 231-3046, FAX (303) 231-3385, email Dennis.C.Jones@mms.gov.

SUPPLEMENTARY INFORMATION:

Title: Production Accounting and Auditing System Reports.

OMB Control Number: 1010-NEW.

Bureau Form Numbers: Forms MMS-4054, MMS-4055, MMS-4056, and MMS-4058.

Abstract: The Secretary of the Interior is responsible for the collection of royalties from lessees who produce minerals from leased Federal and Indian lands. The Secretary is authorized to manage lands, to collect royalties due, and to distribute royalty funds. MMS is responsible for the royalty management functions assigned to the Secretary and is developing a financial accounting system which includes royalty and production reporting as a part of an overall effort to improve management of the nation's resources. This new system will be effective October 1, 2001, and will replace both the Accounting and Financial System and the Production Accounting and Auditing System. MMS' proposal was published in the Federal Register on February 23, 1999 (64 FR 8844). We received 15 comments related to production reporting. We responded to these comments in the ICR that we submitted to OMB.

In April 1996, MMS undertook a compliance reengineering initiative. The principal reengineering objective was to define and implement a new compliance strategy ensuring that Federal and Indian mineral lease revenues were accurately and timely paid in the most cost-effective manner possible.

The Royalty Policy Committee (RPC), which includes representatives from industry, States, Indian Tribal and allottee groups, and MMS, issued recommendations in June 1996 to streamline both royalty and production reporting. An action plan was developed to implement many of the recommendations. However, in August 1996, the Federal Oil and Gas Royalty Simplification and Fairness Act (RSFA) of 1996, was enacted into law. RSFA significantly changed many of the Royalty Management Program's (RMP) historical operating assumptions as well as some fundamental Federal oil and gas mineral revenue financial activities. Although near-term changes in processes and systems were made to implement the law, long-term strategies, business processes, and aging systems needed to be addressed for RMP to be cost-effective and responsive to customer needs. The decision was made April 1, 1997, to expand reengineering to all RMP core business processes. This is the most comprehensive review of RMP's business processes and organization since its creation in 1982.

As part of our reengineering effort, we analyzed current information collection requirements for existing Forms MMS-3160, MMS-4051, MMS-4054, MMS-4055, MMS-4056, and MMS-4058 (OMB control Number 1010-0040) to confirm the presence of data needed to support future RMP processes. As a result, RMP deleted Forms MMS-3160 and MMS-4051 and streamlined and modified required data elements on Forms MMS-4054 through MMS-4058. These revised forms will not be used until RMP implements it's new financial accounting system, currently scheduled for implementation in October 2001.

MMS proposes to use these four revised forms for gathering oil and gas production data from industry as follows:

a. Form MMS-4054, Oil and Gas Operations Report (OGOR),

b. Form MMS-4055, Gas Analysis Report (GAR),

c. Form MMS-4056, Gas Plant Operations Report (GPOR), and

d. Form MMS-4058, Production Allocation Schedule Report (PASR).

The data from these forms are matched with sales and royalty data reported to MMS. The production reports provide MMS with ongoing information on lease, agreement (property) and facility production, sales volumes, and inventories. The reports summarize all operations on a property or facility during a reporting period. They identify production by API well number and sales by product. Data collected are used as a method of cross checking reported production with reported sales.

Industry will not begin using the revised forms until October 2001 when we implement our new financial accounting system. However, we are requesting approval of these revised forms immediately, so that industry can begin work on the necessary systems development and reprogramming adjustments and changes that may be required as they prepare for the new reporting requirements that will be effective October 2001. Please note that the existing forms (Forms MMS-4054, MMS-4055, MMS-4056, and MMS-4058) will continue to be used until the change over to the revised forms in the fall of 2001.

Failure to collect all of this information will prevent MMS from ensuring that all royalties owed on lease production are paid. Additionally, the data are shared electronically with the MMS's Offshore Minerals Management program, Bureau of Land Management, Bureau of Indian Affairs, and tribal and State governments so they can perform their lease management responsibilities.

Respondents/Affected Entities: Operators of Federal or Indian leases.

Frequency of Response: Monthly.

Estimated Number of Respondents: 2,450 operators.

Estimated Total Annual Reporting and Recordkeeping “Hour” Burden: 89,717 hours.

Estimated Annual Reporting and Recordkeeping “Non-Hour Cost” Burden: $1.5 million.

Comments: Section 3506(c)(2)(A) of the PRA requires each agency “* * * to provide notice * * * and otherwise consult with members of the public and affected agencies concerning each proposed collection of information. . . .” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The PRA provides that an agency may not conduct or sponsor, and a person is not required to respond to, a collection of information unless it displays a currently valid OMB Control Number. As required in 5 CFR 1320.8(d), MMS published a 60-day Federal Register Notice on February 23, 1999 (64 FR 8835), soliciting comments from the public on these revised forms.

Send your comments directly to the offices listed under the ADDRESSES section of this notice. OMB has up to 60 days to approve or disapprove the information collection but may respond after 30 days. Therefore, to ensure maximum consideration, OMB should receive public comments by June 19, 2000.

MMS Information Collection Clearance Officer: Jo Ann Lauterbach, telephone (202) 208-7744.

Dated: May 11, 2000.
Lucy Querques Denett,
Associate Director for Royalty Management.

[FR Doc. 00-12486 Filed 4-17-00; 8:45 am]

BILLING CODE 4310-MR-P